DEPARTMENT OF LABOR

Employment and Training Administration

[TA-W-57,802; TA-W-57,802F]

Sara Lee Branded Apparel Division Office, Division of Sara Lee Corporation, Formerly Known as National Textiles, LLC, Currently Known as Hanesbrands, Inc. Winston-Salem, NC; Including an Employee of Sara Lee Branded Apparel, Division Office, Division of Sara Lee Corporation, Formerly Known as National Textiles, LLC, Currently Known as Hanesbrands, Inc., Winston-Salem, NC Located in Covington, GA; Amended Certification Regarding Eligibility To Apply for Worker Adjustment Assistance and Negative Determination Regarding Eligibility To Apply for Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and a Negative Determination Regarding Eligibility to Apply for Alternative Trade Adjustment Assistance on September 28, 2005, applicable to workers of Sara Lee Branded Apparel, Division Office, Winston-Salem, North Carolina. The notice was published in the Federal Register on October 31, 2005 (70 FR 62347).

At the request of a petitioner and the State agency, the Department reviewed the certification for workers of the subject firm. New information shows that a worker separation occurred involving an employee of the Division Office, Winston-Salem, North Carolina facility of the Sara Lee Branded Apparel located in Covington, Georgia. Ms. Charlene Gautier provided sales and merchandizing support function services for the activities related to the production of underwear (shorts and T-shirts) produced by the subject company.

Based on these findings, the Department is amending this certification to include an employee of the Division Office, Winston-Salem, North Carolina facility of the Sara Lee Branded Apparel located in Covington, Georgia.

The intent of the Department's certification is to include all workers of Sara Lee Branded Apparel, Division Office, Winston-Salem, North Carolina who was adversely affected by increased imports.

The amended notice applicable to TA-W-57,802 is hereby issued as follows:

All workers of Sara Lee Branded Apparel, Division Office, Division of the Sara Lee Corporation, formerly known as National Textiles, LLC, currently known as Hanesbrands, Inc., Winston-Salem, North Carolina (TA-W-57,802), and including an employee of Sara Lee Branded Apparel, Division Office, Division of Sara Lee Corporation, currently known as Hanesbrands, Inc., Winston Salem, North Carolina, located in Covington, Georgia (TA-W-57,802F), who became totally or partially separated from employment on or after July 29, 2004, through September 28, 2007, are eligible to apply for adjustment assistance under Section 223 of the Trade Act of 1974.

I further determine that all workers of Sara Lee Branded Apparel, Division of the Sara Lee Corporation, formerly known as National Textiles, LLC, currently known as Hanesbrands, Inc., Winston-Salem, North Carolina (TA-W-57,802), and including an employee of Sara Lee Branded Apparel, Division Office, Division of Sara Lee Corporation, formerly known as National Textiles, LLC, currently known as Hanesbrands, Inc., Winston Salem, North Carolina, located in Covington, Georgia (TA-W-57,802F) are denied eligibility to apply for alternative trade adjustment assistance under Section 246 of the Trade Act of 1974.

Signed at Washington, DC, this 29th day of January 2008.
Elliott S. Kushner,
Certifying Officer, Division of Trade Adjustment Assistance.

[FR Doc. E8-2235 Filed 2-6-08; 8:45 am]

BILLING CODE 4510-FN-P